DEPARTMENT OF ENERGY

Federal Energy Regulatory Commission

[Docket No. EL01-105-000]

The New Power Company, Complainant v. PJM Interconnection, L.L.C., Respondent; Notice of Complaint

July 20, 2001.

Take notice that on July 19, 2001, The New Power Company (New Power) filed a complaint requesting that the Commission find that (1) the rules for ensuring reliable electric service in the Pennsylvania-New Jersey-Maryland (PJM) control area have resulted in prices for capacity in the PJM auction and bilateral markets that are unjust and unreasonable, and (2) the continued imposition of the existing capacity requirement and deficiency charge on load serving entities (LSEs) under the current changed circumstances resulting from restructuring, is unjust and unreasonable, and unduly discriminatory and preferential. New Power further requests that the Commission order PJM to eliminate immediately the recently imposed seasonal deficiency penalty and set the Capacity Deficiency Rate (CDR) on a daily basis at the higher of the marginal cost of the least efficient capacity resource required to make up the deficiency on that day or the Alternate Value, i.e., the difference between the energy prices on that day at the Cinergy Hub and PJM's Western Hub.

New Power requests that the Commission set a refund effective date of 60 days from the date of filing of its complaint.

Copies of New Power's filing were served on PJM, all parties to PJM's Reliability Assurance Agreement and each state electric utility regulatory commission in the PJM control area.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before August 3, 2001. Protests will be considered by the Commission in determining the appropriate action to be taken, but will not serve to make protestants parties to the proceeding. Any person wishing to become a party must file a motion to intervene. Answers to the complaint shall also be due on or before August 3, 2001. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-18772 Filed 7-26-01; 8:45 am]

BILLING CODE 6717-01-P